FEDERAL TRADE COMMISSION

16 CFR Part 305

RIN 3084-AB15

Energy Labeling Rule

AGENCY: Federal Trade Commission.

ACTION: Notice of proposed rulemaking; extension of public comment period.

SUMMARY: The Federal Trade Commission (“FTC” or “Commission”) is extending the deadline for filing comments on its advance notice of proposed rulemaking (“ANPR”) regarding the Energy Labeling Rule.

DATES: For the ANPR published October 25, 2022 (87 FR 64399), the comment deadline is extended from December 27, 2022, to January 31, 2023.

FOR FURTHER INFORMATION CONTACT: Hampton Newsome (202-326-2889), Attorney, Division of Enforcement, Bureau of Consumer Protection, Federal Trade Commission, 600 Pennsylvania Avenue NW, Washington, DC 20580.

SUPPLEMENTARY INFORMATION: On October 17, 2022, the Commission announced that it would seek public comments on whether to make changes to the Energy Labeling Rule (the “Rule”). The Commission subsequently published the ANPR to seek public comments on potential amendments to the Rule, including repair-related requirements, energy labels for several new consumer product categories, and other possible amendments to improve the Rule's effectiveness, and reduce unnecessary burdens. Interested parties have requested an extension of the public comment period until January 31, 2023, to account for the breadth of questions, the complexity of the issues, and the holidays.

The Commission agrees that allowing additional time for filing comments in response to the ANPR would help facilitate the creation of a more complete record. The Commission has therefore decided to extend the comment period to January 31, 2023. This extension will provide commenters adequate time to address the issues raised in the ANPR.

By direction of the Commission.
Joel Christie,
Acting Secretary.

[FR Doc. 2023-01429 Filed 1-24-23; 8:45 am]

BILLING CODE 6750-01-P